DEPARTMENT OF HEALTH AND HUMAN SERVICES

Centers for Disease Control and Prevention

[Program Announcement 04146]

World Health Organization Stop TB Initiative: Expanding Efforts and Strategies To Prevent and Control Tuberculosis and TB/HIV; Notice of Intent To Fund Single Eligibility Award

A. Purpose

The Centers for Disease Control and Prevention (CDC) announces the intent to fund fiscal year (FY) 2004 funds for a cooperative agreement program to expand efforts and strategies to prevent and control tuberculosis (TB) and the intersecting epidemics of TB and HIV (TB/HIV). The Catalog of Federal Domestic Assistance number for this program is 93.116.

B. Eligible Applicant

Assistance will be provided only to the World Health Organization (WHO). WHO is the only qualified international/intergovernmental organization that has the technical and administrative capacity to conduct the specific set of activities requested to support CDC TB and TB/HIV prevention and control activities outlined under this cooperative agreement because:

1. WHO is uniquely positioned, in terms of legal authority, ability, track record, infrastructure and credibility throughout the world to develop and support TB and TB/HIV control activities in both public and non-governmental organizations.

2. WHO has already established a framework and mechanisms to develop and implement TB and TB/HIV treatment and control activities in numerous countries, enabling it to immediately become engaged in the activities listed in this announcement.

3. WHO has demonstrated its ability to coordinate and implement TB treatment and control activities including TB/HIV co-infection worldwide.

4. WHO has the ability to collect information, train staff and advocate for policy based on the experiences learned from implementing the activities described in this announcement.

5. WHO occupies a unique position among the world's health agencies as the technical agency for health within the United Nations.

6. WHO has an unprecedented level of access to all national TB and related programs through its six regional offices located in the USA, Denmark, Egypt, Zimbabwe, India, and the Philippines.

7. In collaboration with other international organizations, WHO works to accomplish its mission by disseminating information related to TB and TB/HIV program needs and services, recommends and advocates improved policies and programs, and provides consultation and guidance at the international, national, and local levels.

8. WHO is uniquely qualified to conduct activities that have specific relevance to the TB and TB/HIV response mission and objectives of CDC, which have direct impact on the health and safety of the United States and of Americans abroad.

C. Funding

Approximately $1,143,000 is available in FY 2004 to fund this award. It is expected that the award will begin on or before September 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Steward Nichols, Grants Management Specialist, CDC Procurement and Grants Office, 2920 Brandywine Road, Atlanta, GA 30341, Telephone: (770) 488-2788, E-mail: SNichols1@cdc.gov.

Dated: May 5, 2004.
William P. Nichols,
Acting Director, Procurement and Grants Office, Centers for Disease Control and Prevention.

[FR Doc. 04-10620 Filed 5-10-04; 8:45 am]

BILLING CODE 4163-18-P